DEPARTMENT OF AGRICULTURE

Animal and Plant Health Inspection Service

[Docket No. APHIS-2010-0115]

Availability of an Environmental Assessment for a Biological Control Agent for Air Potato

AGENCY: Animal and Plant Health Inspection Service, USDA.

ACTION: Notice of availability and request for comments.

SUMMARY: We are advising the public that the Animal and Plant Health Inspection Service has prepared an environmental assessment (EA) relative to the control of air potato (Dioscorea bulbifera). The EA considers the effects of, and alternatives to, the release of an insect, Lilioceris cheni, into the continental United States for use as a biological control agent to reduce the severity of air potato infestations. We are making the EA available to the public for review and comment.

DATES: We will consider all comments that we receive on or before February 18, 2011.

ADDRESSES: You may submit comments by either of the following methods:

• Federal eRulemaking Portal: Go to http://www.regulations.gov/fdmspublic/component/main?main=DocketDetail&d=APHIS-2010-0115 to submit or view comments and to view supporting and related materials available electronically.

• Postal Mail/Commercial Delivery: Please send one copy of your comment to Docket No. APHIS-2010-0115, Regulatory Analysis and Development, PPD, APHIS, Station 3A-03.8, 4700 River Road Unit 118, Riverdale, MD 20737-1238. Please state that your comment refers to Docket No. APHIS-2010-0115.

Reading Room: You may read any comments that we receive on the environmental assessment in our reading room. The reading room is located in Room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Shirley Wager-Page, Chief, Pest Permitting Branch, PPQ, APHIS, 4700 River Road Unit 133, Riverdale, MD 20737-1237; (301) 734-8453.

SUPPLEMENTARY INFORMATION:

Background

The Animal and Plant Health Inspection Service (APHIS) is proposing to issue permits for the release of an insect, Lilioceris cheni, into the continental United States for use as a biological control agent to reduce the severity of air potato (Dioscorea bulbifera) infestations.

Air potato is a twining vine that can grow 65 feet long or greater, capable of climbing and out-competing native vegetation. Air potato was introduced in Florida in 1905 and has since become one of the most aggressive weeds in that State. In 1999, the Florida Department of Agricultural and Consumer Services added air potato to its list of noxious weeds in an attempt to protect the State's native plant species from being displaced or hybridized. Presently, the air potato is well established in Florida and probably throughout the Gulf States where it has the potential to severely disrupt entire ecosystems.

Existing air potato management options, which include chemical and mechanical control methods, are ineffective, expensive, temporary, or have non-target impacts. Thus, a permit application has been submitted to APHIS for the purpose of releasing an insect, L. cheni, into the continental United States for use as a biological control agent to reduce the severity of air potato infestations.

APHIS' review and analysis of the proposed action are documented in detail in an environmental assessment (EA) titled “Field Release of Lilioceris cheni Gressit & Kimoto (Coleoptera: Chrysomelidae) for Biological Control of Air Potato, Dioscorea bulbifera (Dioscoreaceae), in the Continental United States” (September 2010). We are making the EA available to the public for review and comment. We will consider all comments that we receive on or before the date listed under the heading DATES at the beginning of this notice.

The EA may be viewed on the Regulations.gov Web site or in our reading room (see ADDRESSES above for instructions for accessing Regulations.gov and information on the location and hours of the reading room). You may request paper copies of the EA by calling or writing to the person listed under FOR FURTHER INFORMATION CONTACT. Please refer to the title of the EA when requesting copies.

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 12th day of January 2011.
Kevin Shea,
Acting Administrator, Animal and Plant Health Inspection Service.

[FR Doc. 2011-981 Filed 1-18-11; 8:45 am]

BILLING CODE 3410-34-P